DEPARTMENT OF HEALTH AND HUMAN SERVICES

Centers for Disease Control and Prevention

[CDC-2013-0024; Docket Number NIOSH-270]

Issuance of Final Publication

AGENCY: National Institute for Occupational Safety and Health (NIOSH) of the Centers for Disease Control and Prevention (CDC), Department of Health and Human Services (HHS).

ACTION: Notice of issuance of final publication.

SUMMARY: The National Institute for Occupational Safety and Health (NIOSH) of the Centers for Disease Control and Prevention (CDC), announces the availability of the following publication: “NIOSH Center for Motor Vehicle Safety: Strategic Plan for Research and Prevention, 2014-2018” [2014-122].

ADDRESSES: This document may be obtained at the following link: http://www.cdc.gov/niosh/docs/2014-122/.

FOR FURTHER INFORMATION CONTACT: Stephanie Pratt, NIOSH Division of Safety Research, 1095 Willowdale Road, Mail Stop H-1808, Morgantown, WV 26505. (304) 285-5992 (not a toll free number).

Dated: May 2, 2014.
John Howard,
Director, National Institute for Occupational Safety and Health, Centers for Disease Control and Prevention.

[FR Doc. 2014-10666 Filed 5-8-14; 8:45 am]

BILLING CODE 4163-19-P